ENVIRONMENTAL PROTECTION AGENCY

[FRL-7567-5]

Proposed CERCLA Section 122(h) Administrative Agreement for Recovery of Past Costs for the Mercury Refining Superfund Site, Towns of Guilderland and Colonie, Albany County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative agreement pursuant to section 122(h) of CERCLA, 42 U.S.C. 9622(h), with the settling parties, Mercury Refining Company, Inc. (“Mereco”), and Leo Cohen, for recovery of past and future response costs concerning the Mercury Refining Superfund Site (“Site”) located in the Towns of Guilderland and Colonie, Albany County, New York. The settlement requires that EPA be paid a total of approximately $524,000: the total remaining funds in an escrow account established by Mereco (estimated to be approximately $494,000) and $30,000 from Leo Cohen, Mereco's founder, sole shareholder and former president. The settlement includes a covenant not to sue the settling parties pursuant to sections 106 and 107(a) of CERCLA, 42 U.S.C. 9606 and 9607(a), and section 7003 of the Resource Conservation and Recovery Act (“RCRA”), 42 U.S.C. 6973, in exchange for their payment of monies.

For thirty (30) days following the date of publication of this notice, EPA will receive written comments relating to the settlement. EPA will consider all comments received and may modify or withdraw its consent to the settlement if comments received disclose facts or considerations that indicate that the proposed settlement is inappropriate, improper or inadequate.EPA's response to any comments received will be available for public inspection at EPA Region II, 290 Broadway, New York, New York 10007-1866. Commenters may request an opportunity for a public meeting in the affected area in accordance with section 7003(d) of RCRA, 42 U.S.C. 6973(d).

DATES: Comments must be submitted on or before November 3, 2003.

ADDRESSES: The proposed settlement is available for public inspection at EPA Region II offices at 290 Broadway, New York, New York 10007-1866. Comments should reference the Mercury Refining Superfund Site, Towns of Guilderland and Colonie, Albany County, New York, Index No. CERCLA-02-2003-2009. To request a copy of the proposed settlement agreement, please contact the individual identified below.

FOR FURTHER INFORMATION CONTACT: Sharon E. Kivowitz, Assistant Regional Counsel, New York/Caribbean Superfund Branch, Office of Regional Counsel, U.S. Environmental Protection Agency, 290 Broadway—17th Floor, New York, New York 10007-1866. Telephone: 212-637-3183.

Dated: September 16, 2003.
William J. Muszynski,
Deputy Regional Administrator, Region 2.

[FR Doc. 03-25010 Filed 10-1-03; 8:45 am]

BILLING CODE 6560-50-P